DEPARTMENT OF ENERGY

FEDERAL ENERGY REGULATORY COMMISSION

18 CFR Part 35

[Docket No. RM16-17-000; Order No. 860]

Data Collection for Analytics and Surveillance and Market-Based Rate Purposes

AGENCY: Federal Energy Regulatory Commission.

ACTION: Final rule; delay of compliance.

SUMMARY: The Commission delays the compliance date for the requirements of its final rule, “Data Collection for Analytics and Surveillance and Market-Based Rate Purposes” (Order No. 860) until July 1, 2021.

DATES: The compliance date for the final rule published on July 26, 2019, at 84 FR 36390 (Order No. 860), is delayed to July 1, 2021.

FOR FURTHER INFORMATION CONTACT:

Ryan Stertz (Technical Information), Office of Energy Market Regulation, Federal Energy Regulatory Commission, 888 First Street NE, Washington, DC 20426, (202) 502-6473, ryan.stertz@ferc.gov

Regine Baus (Legal Information), Office of the General Counsel, Federal Energy Regulatory Commission, 888 First Street NE, Washington, DC 20426, (202) 502-8757, regine.baus@ferc.gov

SUPPLEMENTARY INFORMATION:

1. In this Final Rule, the Commission delays the compliance date for the requirements of Order No. 860 until July 1, 2021.

I. Background

1. On July 18, 2019, the Commission issued Order No. 860,¹ which revised certain aspects of the substance and format of information submitted for market-based rate purposes by Sellers.² Specifically, the Commission adopted the approach to data collection proposed in the Notice of Proposed Rulemaking issued in July 2016, i.e., to collect market-based rate information in a relational database.³ The current effective date of Order No. 860 was October 1, 2020.⁴

¹ Data Collection for Analytics & Surveillance and Market-Based Rate Purposes, Order No. 860, 84 FR 36390 (Jul. 26, 2019) 168 FERC ¶ 61,039 (2019), order on reh'g, Order No. 860-A, 85 FR 13013 (Mar. 6, 2020) 170 FERC ¶ 61,129 (2020).

² A Seller is defined as any person that has authorization to or seeks authorization to engage in sales for resale of electric energy, capacity or ancillary services at market-based rates under section 205 of the Federal Power Act (FPA). 18 CFR 35.36(a)(1); 16 U.S.C. 824d.

³ Data Collection for Analytics & Surveillance and Market-Based Rate Purposes, Notice of Proposed Rulemaking, 81 FR 51726 (Aug. 4, 2016), 156 FERC ¶ 61,045 (2016).

⁴ On May 20, 2020, the Commission issued a Notice of Extension of Time to notify industry that the implementation of Order No. 860 would be delayed by six months.

2. On March 18, 2021, the Commission issued a Notice Seeking Comments (Notice) on a proposal to collect additional data from certain Sellers through revisions to the data dictionary and XML schema that accompany the relational database established in Order No. 860 (MBR Data Dictionary).⁵ Specifically, the Notice proposes to update the MBR Data Dictionary and add three new attributes to the Entities to Entities table. This requirement includes submitting into the relational database the docket number of the section 203(a)(2) blanket authorization, the identifier(s) of the upstream affiliate(s) whose securities were acquired pursuant to the section 203(a)(2) blanket authorization, and the type of identifier(s) reported. The appropriate Sellers would be required to submit the docket number of the proceeding in which the Commission granted the section 203(a)(2) blanket authorization and the proper identifier(s) for the upstream affiliate(s) whose securities were acquired pursuant to the section 203(a)(2) blanket authorization.

⁵ Data Collection for Analytics & Surveillance and Market-Based Rate Purposes, Proposed revision of collected information; request for comments, 86 FR 17823 (Apr. 6, 2021), 174 FERC ¶ 61,214 (2021).

II. Discussion

3. The Notice requests that comments on the proposal be filed 60 days after the publication to the Federal Register. A delay in the compliance date of Order No. 860 is necessary to allow for public comment on the Commission's proposal in the Notice and for the Commission to have adequate time to review those comments. Accordingly, we extend the compliance date for the requirements of Order No. 860 to July 1, 2021. Other implementation dates in Order No. 860 are correspondingly extended as shown in the attached Appendix.

4. Notice and comment on this delay in compliance is unnecessary because the delay is short, the compliance dates remain aligned with the dates established in Order No. 860 (as shown in the Appendix), and there is no change to the policy effectuated by Order No. 860.

III. Information Collection Statement

5. This final rule delays compliance to Order No. 860 but does not change any reporting or recordkeeping requirements. Therefore, there is no change in estimated burden or cost from Order No. 860.

IV. Environmental Analysis

6. The Commission is required to prepare an Environmental Assessment or an Environmental Impact Statement for any action that may have a significant adverse effect on the human environment.⁶ The Commission has categorically excluded certain actions from these requirements as not having a significant effect on the human environment.⁷ The actions proposed here fall within a categorical exclusion in the Commission's regulations, i.e., they involve information gathering, analysis, and dissemination.⁸ Therefore, environmental analysis is unnecessary and has not been performed.

⁶ Regulations Implementing the National Environmental Policy Act, Order No. 486, 52 FR 47897 (Dec. 17, 1987), FERC Stats. & Regs. ¶ 30,783 (1987) (cross-referenced at 41 FERC ¶ 61,284).

⁷ Id.

⁸ 18 CFR 380.4.

V. Regulatory Flexibility Act

7. This final rule delays compliance to Order No. 860 but does not change any reporting or record keeping requirements. Therefore, there is no change in the estimated impact on small entities. Accordingly, we certify that this final rule will not have a significant economic impact on a substantial number of small entities.

VI. Document Availability

8. In addition to publishing the full text of this document in the Federal Register, the Commission provides all interested persons an opportunity to view and/or print the contents of this document via the internet through FERC's Home Page (http://www.ferc.gov). At this time, the Commission has suspended access to the Commission's Public Reference Room due to the President's March 13, 2020 proclamation declaring a National Emergency concerning the Novel Coronavirus Disease (COVID-19).

9. From the Commission's Home Page on the internet, this information is available on eLibrary. The full text of this document is available on eLibrary in PDF and Microsoft Word format for viewing, printing, and/or downloading. To access this document in eLibrary, type the docket number excluding the last three digits of this document in the docket number field.

10. User assistance is available for eLibrary and the FERC's website during normal business hours from FERC Online Support at (202) 502-6652 (toll free at 1-866-208-3676) or email at ferconlinesupport@ferc.gov, or the Public Reference Room at (202) 502-8371, TTY (202) 502-8659. Email the Public Reference Room at public.referenceroom@ferc.gov.

By the Commission.
Dated: March 18, 2021.
Kimberly D. Bose,
Secretary.

Appendix

Activity | Current order No. 860 schedule | Revised, three-month delay of compliance schedule
Testing period for the MBR Database | Through Mar. 31, 2021 | Through Jun. 30, 2021.
“Go-live” date of MBR Database | Apr. 1, 2021 | Jul. 1, 2021.
Sellers should create needed identifiers (FERC Generated IDs and Asset IDs) in the MBR Portal and prepare their baseline submissions | Apr. 1, 2021-June 30, 2021 | Jul. 1, 2021-Sep. 30, 2021.
Baseline submissions are due | By Aug. 2, 2021 | By Nov. 2, 2021.
First change in status filings under new timelines are due | By Aug. 31, 2021 | By Nov. 30, 2021.
Second change in status filings under quarterly reporting requirement are due | By Oct. 31, 2021 | By Jan. 31, 2022.

[FR Doc. 2021-06090 Filed 4-23-21; 8:45 am]

BILLING CODE 6717-01-P